DEPARTMENT OF TRANSPORTATION

Federal Aviation Administration

[Docket No. FAA-2024-0640]

Agency Information Collection Activities: Requests for Comments; Clearance of Renewed Approval of Information Collection: National Airspace System Data Release Request

AGENCY: Federal Aviation Administration (FAA), DOT.

ACTION: Notice and request for comments.

SUMMARY: In accordance with the Paperwork Reduction Act of 1995, FAA invites public comments about our intention to request the Office of Management and Budget (OMB) approval to renew an information collection. The Federal Register Notice with a 60-day comment period soliciting comments on the following collection of information was published on March 8, 2024. The collection is a request form, and collection frequency is on occasion, depending on how often requests for National Airspace System (NAS) data are submitted to the FAA. The information to be collected will be used to evaluate the validity of a user's request for NAS data from FAA systems and equipment.

DATES: Written comments should be submitted by November 4, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: David Heron by email at: david.m.heron.@faa.gov; phone: 202-267-8448.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0668.

Title: NAS Data Release Request.

Form Numbers: FAA Form 1200-5.

Type of Review: Renewal of an information collection.

Background: The Federal Register Notice with a 60-day comment period soliciting comments on the following collection of information was published on March 8, 2024 (89 FR 16813).

This information collection is required to obtain or retain a benefit, which is to obtain NAS data from the FAA. This submission includes information about the entity requesting the NAS data to determine their rationale for making the NAS data request, details on the intended use of the NAS data requested, whether the request includes sensitive flight data elements, and the scope and nature of the work each specific individual will perform who is requesting access to the requested NAS data. These details are necessary to establish the requestor's “need to know” basis as part of NAS Data Release evaluation process. The information provided by the requestor is used by the FAA NAS Data Release Board (NDRB) to approve or disapprove individual requests for NAS data, consistent with FAA Order 1200.22E External Requests for National Airspace System (NAS) Data.

Respondents: Approximately 9 requests submitted annually to the FAA by requestors of NAS data.

Frequency: On occasion.

Estimated Average Burden per Response: 1 hour.

Estimated Total Annual Burden: 9 hours total.

Issued in Washington, DC, on October 1, 2024.
Jack Morris,
Group Manager, Strategic Operations Security, AJR-22.

[FR Doc. 2024-23007 Filed 10-3-24; 8:45 am]

BILLING CODE 4910-13-P